DEPARTMENT OF COMMERCE

International Trade Administration

Request for Applicants for the Appointment to the United States-India CEO Forum

AGENCY: Global Markets, International Trade Administration, Department of Commerce.

ACTION: Notice.

SUMMARY: In 2005, the Governments of the United States and India established the U.S.-India CEO Forum. On February 10, 2012, we published in the Federal Register a “Request for Applicants for the Appointment to the United States-India CEO Forum” (FR Doc. 2012-3158), announcing membership opportunities for appointment as representatives to the U.S. Section of the Forum, and we appointed ten members to the U.S. Section of the Forum for a two-year term beginning on September 1, 2012. We are now soliciting additional applications for up to two openings from members of the private sector representing either the U.S. health care sector or the U.S. insurance industry sector. This notice supplements the notice of February 10, 2012, and announces membership opportunities for appointment as representatives to the U.S. Section of the Forum's private sector Committee to serve for the remainder of the current term which ends on August 31, 2014.

DATES: Applications should be received no later than 30 days after publication of this Notice.

ADDRESSES: Please send requests for consideration to Valerie Dees, Awinash Bawle, and Jed Diemond at the Office of South Asia, U.S. Department of Commerce, either by email at valerie.dees@trade.gov, awinash.bawle@trade.gov, and jed.diemond@trade.gov or by mail to U.S. Department of Commerce, 1401 Constitution Avenue NW., Room 2310, Washington, DC 20230.

FOR FURTHER INFORMATION CONTACT: Valerie Dees, Director, Office of South Asia, U.S. Department of Commerce, telephone: (202) 482-0477.

SUPPLEMENTARY INFORMATION: The U.S.-India CEO Forum, consisting of both private and public sector members, brings together leaders of the respective business communities of the United States and India to discuss issues of mutual interest, particularly ways to strengthen the economic and commercial ties between the two countries, and to communicate their joint recommendations to the U.S. and Indian governments. The Forum has U.S. and Indian co-chairs; the U.S. Deputy National Security Advisor for International Economic Affairs, together with the Deputy Chairman of the Planning Commission of India, co-chair the Forum. The Forum includes a Committee comprising private sector members. The Committee will be composed of two Sections, each consisting of 10-12 members from the private sector representing the views and interests of the private sector business community in the United States and India, respectively. Each government will appoint the members to its respective Section. The Committee will provide recommendations to the two governments and their senior officials that reflect private sector views, needs, and concerns about the creation of an environment in which their respective private sectors can partner, thrive, and enhance bilateral commercial ties to expand trade and economic links between the United States and India. The Committee will continue to build on the work done by the Committee to date, including the Forum's April 2008 and November 2010 reports.

On February 10, 2012, we published in the Federal Register a “Request for Applicants for the Appointment to the United States-India CEO Forum” (FR Doc. 2012-3158), announcing membership opportunities for appointment as representatives to the U.S. Section of the Forum. The application period closed on March 26, 2012, and we appointed ten members to the U.S. Section of the Forum for a two-year term beginning on September 1, 2012. We are now soliciting additional applications for up to two openings from members of the private sector representing either the U.S. health care sector or the U.S. insurance industry sector. This notice supplements the notice of February 10, 2012, and announces membership opportunities for appointment as representatives to the U.S. Section of the Forum's private sector Committee.

Candidates are currently being sought for membership on the U.S. Section of the Forum. Each candidate must be the Chief Executive Officer or President (or have a comparable level of responsibility) of a U.S.-owned or controlled company that is incorporated in and has its main headquarters located in the United States and is currently doing business in both India and the United States. Each candidate also must be a U.S. citizen or otherwise legally authorized to work in the United States and be able to travel to India and locations in the United States to attend official Forum meetings as well as Section meetings on the U.S. side. In addition, the candidate may not be a registered foreign agent under the Foreign Agents Registration Act of 1938, as amended.

Evaluation of applications for membership in the U.S. Section by eligible individuals will be based on the following criteria:

• Representation of either the health care sector or insurance industry sector.

• A demonstrated commitment by the individual's company to the Indian market either through exports or investment.

• A demonstrated strong interest in India and its economic development.

• The ability to offer a broad perspective and business experience to the discussions.

• The ability to address cross-cutting issues that affect the entire business community.

• The ability to initiate and be responsible for activities in which the Forum will be active.

The evaluation of applications for membership in the U.S. Section will be undertaken by a committee of staff from multiple U.S. Government agencies. Members will be selected on the basis of who best will carry out the objectives of the Forum as stated in the last paragraph of the SUPPLEMENTARY INFORMATION caption above. The U.S. Section of the Committee should also include members who represent a diversity of geographic locations. To the extent possible, Section members also should represent a cross-section of small, medium, and large firms.

U.S. Section members will receive no compensation for their participation in Forum-related activities. Individual members will be responsible for all travel and related expenses associated with their participation in the Forum, including attendance at Committee and Section meetings. It is anticipated that the next Forum meeting will be held approximately in the first half of 2014. The U.S. and Indian Sections should be prepared to work together ahead of that time to prepare recommendations to the U.S. and Indian governments. Only appointed members may participate in official Forum meetings; substitutes and alternates will not be designated. Appointed members will serve for the remainder of the current two-year term, scheduled to expire on August 31, 2014, and will be eligible to apply for reappointment for a subsequent term. In the event of a vacancy after members of the U.S. Section are appointed, candidates not previously selected may be considered to fill the vacancy based on material submitted in response to this notice.

To be considered for membership in the U.S. Section, please submit the following information as instructed in the DATES and ADDRESSES captions above: Name and title of the individual requesting consideration; name and address of company's headquarters; location of incorporation; size of the company; size of company's export trade, investment, and nature of operations or interest in India; and a brief statement of why the candidate should be considered, including information about the candidate's ability to initiate and be responsible for activities in which the Forum will be active. All candidates will be notified of whether they have been selected.

Dated: October 25, 2013.
Valerie A. Dees,
Director of the Office of South Asia.

[FR Doc. 2013-25791 Filed 10-30-13; 8:45 am]

BILLING CODE 3510-FP-P